DEPARTMENT OF THE TREASURY

Internal Revenue Service

Open Meeting of the Taxpayer Advocacy Panel Volunteer Income Tax Assistance (VITA) Issue Committee

AGENCY: Internal Revenue Service (IRS) Treasury.

ACTION: Notice.

SUMMARY: An open meeting of the VITA Issue Committee will be conducted. The Taxpayer Advocacy Panel is soliciting public comment, ideas, and suggestions on improving customer service at the Internal Revenue Service.

DATES: The meeting will be held Monday, May 1, 2006, 8 a.m. to 4:30 p.m., and Tuesday, May 2, 2006, 8 a.m. to 4:30 p.m., Eastern Time.

FOR FURTHER INFORMATION CONTACT: Sandy McQuin at 1-888-912-1227, or (414) 297-1604.

SUPPLEMENTARY INFORMATION: Notice is hereby given pursuant to Section 10(a)(2) of the Federal Advisory Committee Act, 5 U.S.C. App. (1988) that a meeting of the VITA Issue Committee will be held Monday, May 1, 2006, 8 a.m. to 4:30 p.m., and Tuesday, May 2, 2006, 8 a.m. to 4:30 p.m., Eastern Time, in Atlanta, GA. You can submit written comments to the panel by faxing to (414) 297-1623, or by mail to Taxpayer Advocacy Panel, Stop1006MIL, 310 West Wisconsin Avenue, Milwaukee, WI 53203-2221, or you can contact us at http://www.improveirs.org. This meeting is not required to be open to the public, but because we are always interested in community input, we will accept public comments. Please contact Sandy McQuin at 1-888-912-1227 or (414) 297-1604 for more information.

The agenda will include the following: Various VITA issues

Dated: April 3, 2006.
Bernard Coston,
Director, Taxpayer Advocacy Panel.

[FR Doc. E6-5132 Filed 4-6-06; 8:45 am]

BILLING CODE 4830-01-P